FEDERAL COMMUNICATIONS COMMISSION

Notice of Public Information Collection(s) Being Reviewed by the Federal Communications Commission for Extension Under Delegated Authority; Comments Requested.

February 21, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 7, 2001. If you anticipate that you will be submitting comments, but find it difficult to do so within the period of time allowed by this notice, you should advise the contact listed below as soon as possible.

ADDRESSES: Direct all comments to Les Smith, Federal Communications Commissions, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-0570.

Title: Section 76.982 Continuation of rate agreements.

Form Number: n/a.

Type of Review: Extension of currently approved collection.

Respondents: Business or other for-profit entities, State, Local or Tribal Government.

Number of Respondents: 25.

Estimated Time Per Response: 0.5 hours.

Total Annual Burden: 13 hours.

Total Annual Costs: $2,600.00.

Needs and Uses: The information collection requirements reported under this control number enable the Commission to determine the extent of rate regulation agreements that pre-date the Cable Television Consumer Protection and Competition Act of 1992 and that are still in effect.

OMB Control Number: 3060-0609.

Title: Section 76.934(e) Petitions for Extension of Time.

Form Number: n/a.

Type of Review: Extension of currently approved collection.

Respondents: Business or other for-profit entities, State, Local or Tribal Government.

Number of Respondents: 35.

Estimated Time Per Response: 4 hours.

Total Annual Burden: 140 hours.

Total Annual Costs: $84,000.00.

Needs and Uses: The information collection requirements reported under this control number are used by the Commission to grant temporary relief to small systems who demonstrate a need for an extension of time to come into compliance with rate regulation.

OMB Control Number: 3060-0562.

Title: Section 76.916 Petition for Recertification.

Form Number: n/a.

Type of Review: Extension of currently approved collection.

Respondents: Business or other for-profit entities, State, Local or Tribal Government.

Number of Respondents: 10.

Estimated Time Per Response: 10.

Total Annual Burden: 100 hours.

Total Annual Costs: $6,530.00.

Needs and Uses: The information collection requirements reported under this control number are used by the Commission to implement section 76.916 Petition for Recertification, by franchising authorities wishing to request certification after its requests for certification have been revoked or denied.

OMB Control Number: 3060-0610.

Title: Section 76.916 Notice to Commission of Rate Change While Complaint Pending.

Form Number: n/a.

Type of Review: Extension of currently approved collection.

Respondents: Business or other for-profit entities.

Number of Respondents: 400.

Estimated Time Per Response: .50 hours.

Total Annual Burden: 200 hours.

Total Annual Costs: $40,000.00.

Needs and Uses: The information collection requirements reported under this control number are used by the Commission to review pending cable service tier rate complaints.

Federal Communications Commission.
Magalie Roman Salas,
Secretary.

[FR Doc. 01-4920 Filed 3-5-01; 8:45 am]

BILLING CODE 6712-01-U